DEPARTMENT OF DEFENSE

Office of the Secretary

[Transmittal No. 23-69]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-69, Policy Justification, and Sensitivity of Technology.

Dated: November 18, 2024.
Stephanie J. Bost,
Alternate OSD Federal Register Liaison Officer, Department of Defense.

BILLING CODE 6001-FR-P

BILLING CODE 6001-FR-C

Transmittal No. 23-69

Notice of Proposed Issuance of Letter of Offer Pursuant to Section 36(b)(1) of the Arms Export Control Act, as amended

(i) Prospective Purchaser: Government of Japan

(ii) Total Estimated Value:

Major Defense Equipment * | $1.26 billion
Other | $1.09 billion
TOTAL | $2.35 billion

(iii) Description and Quantity or Quantities of Articles or Services under Consideration for Purchase:

Major Defense Equipment (MDE):

Two hundred (200) Tomahawk Block IV All Up Rounds (AURs) (RGM-109E)

Two hundred (200) Tomahawk Block V AURs (RGM-109E)

Fourteen (14) Tactical Tomahawk Weapon Control Systems (TTWCS)

Non-MDE:

Also included is support for the Tomahawk Weapon System (TWS) (the All Up Round, the Tactical Tomahawk Weapon Control Systems (TTWCS) and the Mission Distribution Software Suite Centers (MDSSC)), as well as containers; feasibility studies; software; hardware; training; unscheduled missile maintenance; spares; in-service support; communication equipment; operational flight test; publications; engineering and technical expertise to maintain the TWS capability; non-recurring engineering; transportation; and other related elements of logistics and program support.

(iv) Military Department: Navy (JA-P-NFP, JA-P-NGO)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: November 17, 2023

* As defined in Section 47(6) of the Arms Export Control Act.

POLICY JUSTIFICATION

Japan—Tomahawk Weapon System

The Government of Japan has requested to buy two hundred (200) Tomahawk Block IV All Up Rounds (AURs) (RGM-109E); two hundred (200) Tomahawk Block V AURs (RGM-109E); and fourteen (14) Tactical Tomahawk Weapon Control Systems (TTWCS). Also included is support for the Tomahawk Weapon System (TWS) (the All Up Round, the Tactical Tomahawk Weapon Control Systems (TTWCS) and the Mission Distribution Software Suite Centers (MDSSC)), as well as containers; feasibility studies; software; hardware; training; unscheduled missile maintenance; spares; in-service support; communication equipment; operational flight test; publications; engineering and technical expertise to maintain the TWS capability; non-recurring engineering; transportation; and other related elements of logistics and program support. The estimated total cost is $2.35 billion.

This proposed sale will support the foreign policy goals and national security objectives of the United States (U.S.) by improving the security of a major ally that is a force for political stability and economic progress in the Indo-Pacific region.

The proposed sale will improve Japan's capability to meet current and future threats by providing a long range, conventional surface-to-surface missile with significant standoff range that can neutralize growing threats. Japan will have no difficulty absorbing these articles into its armed forces.

The proposed sale of this equipment and support will not alter the basic military balance in the region.

The principal contractor will be Raytheon, Tucson, AZ. There are no known offset agreements proposed in connection with this potential sale.

Implementation of this proposed sale will not require the assignment of any additional U.S. Government or contractor representatives to Japan.

There will be no adverse impact on U.S. defense readiness as a result of this proposed sale.

Transmittal No. 23-69

Notice of Proposed Issuance of Letter of Offer Pursuant to Section 36(b)(1) of the Arms Export Control Act

Annex

Item No. vii

(vii) Sensitivity of Technology:

1. The Tomahawk Block IV/V All Up Round (AUR) consists of the RGM-109E Tomahawk cruise missile assembled in a canister for surface launch. Tomahawk Block IV/V capabilities include: increased system flexibility; improved system response times; improved lethality against an increased target set; improved accuracy; improved Anti-Jam GPS Receiver (AGR) with Selective Availability Anti-Spoofing Module (SAASM) and or M-Code capability; enhanced availability due to a 15-year maintenance interval; and two-way communications between missile and Strike/Missile Controllers via Satellite Communications (SATCOM).

2. The Tactical Tomahawk Weapon Control System (TTWCS) consists of command and control, targeting, mission planning and distribution of the Tomahawk cruise missile.

3. The highest level of classification of defense articles, components, and services included in this potential sale is SECRET.

4. If a technologically advanced adversary were to obtain knowledge of the specific hardware and software elements, the information could be used to develop countermeasures that might reduce weapon system effectiveness or be used in the development of a system with similar or advanced capabilities.

5. A determination has been made that Japan can provide substantially the same degree of protection for the sensitive technology being released as the U.S. Government. This sale is necessary in furtherance of the U.S. foreign policy and national security objectives outlined in the Policy Justification.

6. All defense articles and services listed in this transmittal have been authorized for release and export to Japan.

[FR Doc. 2024-27301 Filed 11-20-24; 8:45 am]

BILLING CODE 6001-FR-P